DEPARTMENT OF HEALTH AND HUMAN SERVICES

Centers for Disease Control and Prevention

[Program Announcement 02020]

Cooperative Agreement for Research and Human Resource Development in Human Infectious Diseases in Guatemala; Notice of Availability of Funds

A. Purpose

The Centers for Disease Control and Prevention (CDC) announces the availability of fiscal year (FY) 2002 funds for a cooperative agreement program for Research and Human Resource Development in Human Infectious Diseases in Guatemala. This program addresses the “Healthy People 2010” focus area of Immunization and Infectious Diseases.

The purpose of this program is to conduct multi-disciplinary laboratory and field research studies and related activities to control and prevent human infectious diseases of public health importance in Guatemala and to achieve the health promotion and diseases prevention objectives of a national activity to reduce morbidity and mortality and improve the quality of health.

B. Eligible Applicants

Assistance will be provided only to the Universidad del Valle. No other applications are solicited.

The Universidad del Valle is the only non-government organization (NGO) in Guatemala with an established collaboration with the Guatemala Ministry of Health and Social Assistance (MOH).

The Universidad del Valle is the only research organization in Guatemala that possesses the requisite scientific and technical expertise, the infrastructure capacity, and which had conducted research in the areas of parasitic diseases and other human infectious diseases through collaboration with CDC for the past twenty three years.

Note: Title 2 of the United States Code, section 1611 states that an organization described in section 501(c)(4) of the Internal Revenue Code that engages in lobbying activities is not eligible to receive Federal funds constituting an award, grant, or loan.

C. Availability of Funds

Approximately $500,000 is available in FY 2002 to fund one award. It is expected that the awards will begin on or about April 1, 2002, and will be made for a 12-month budget period within a project period of up to five years. The funding estimate may change.

Continuation awards within an approved project period will be made on the basis of satisfactory progress as evidenced by required reports and the availability of funds.

D. Where To Obtain Additional Information

Business management technical assistance, contact: Cynthia Collins, Grants Management Specialist, Grants Management Branch, Procurement and Grants Office, Centers for Disease Control and Prevention, 2920 Brandywine Road, Room 3000, Atlanta, GA 30341-4146, Telephone number: (770) 488-2757, E-mail address: coc9cdc.gov.

Program technical assistance may be obtained from: Diana Curtis, Division of Parasitic Diseases, National Center for Infectious Diseases, Centers for Disease Control and Prevention, 1600 Clifton Road, NE., Atlanta, GA 30333, Telephone: (770) 488-7744, E-mail address: dcy1@cdc.gov.

Dated: November 26, 2001.
Rebecca B. O'Kelley,
Chief, International Grants and Contracts Branch, Procurement and Grants Office, Centers for Disease Control and Prevention (CDC).

[FR Doc. 01-29838 Filed 11-30-01; 8:45 am]

BILLING CODE 4163-18-P